PEACE CORPS

Privacy Act of 1974; Systems of Records

AGENCY: Peace Corps.

ACTION: Notice of Modifications to Existing Systems of Records and the Establishment of New Systems of Records.

SUMMARY: Pursuant to the Privacy Act of 1974, the Peace Corps is issuing public notice of its proposal to modify nineteen systems of records and add six new systems of records. This notice provides information required under the Privacy Act on the revised and new systems of records.

DATES: Comments must be received by October 20, 2000. The proposed modified and new systems of records will be effective October 23, 2000 unless the Peace Corps receives comments that require a different determination.

ADDRESSES: Written comments should be addressed to Maggie Thielen, Office of the Chief Information Officer, Peace Corps, 1111 20th Street, NW., Washington, DC 20526. Comments may also be submitted electronically to the following electronic mail address: mthielen@peacecorps.gov. Written comments should refer to Privacy Act Systems of Records Notices and, if sent electronically, should contain this reference on the subject line.

FOR FURTHER INFORMATION CONTACT: Maggie Thielen, Office of the Chief Information Officer, Peace Corps, 1111 20th Street, NW., Washington, DC 20526. Telephone: (202) 692-1106.

SUPPLEMENTARY INFORMATION: Title 5 U.S.C. 552a(e)(4) and (11) provide that the public be given a 30-day period in which to comment on routine uses of information in each system of records. The Office of Management and Budget (OMB), which has oversight responsibility under the Act, requires a 40-day period in which to review modifications to an agency's systems of records. The public, OMB, and Congress are invited to comment on the modifications to nineteen systems and the addition of six new systems.

The Peace Corps has updated and modified the following system of records: PC-1, PC-2, PC-3, PC-4, PC-5, PC-6, PC-7, PC-8, PC-9, PC-10, PC-11, PC-12, PC-13, PC-14, PC-15, PC-16, PC-17, PC-18, and PC-19. The agency has added six new systems of records: PC-20, Building Management, Parking, and Metro Pool; PC-21, Crisis Corps Database; PC-22, Volunteer Health Record; PC-23, Health Benefits Program for Peace Corps Volunteers; PC-24, Privacy and Freedom of Information Act Requests; and PC-25, Administrative Separations. The modifications and additions result from changes in agency programs over time.

I. Alphabetical List of System Notices

Accounts Receivable (Collection of Debts Claims Records)—PC-1—Modified System

Administrative Grievance Records—PC-14—Modified System

Building Management, Parking, and Metro Pool—PC-20—New System

Congressional Files—PC-2—Modified System

Contractors and Consultants Files—PC-3—Modified System

Crisis Corps Databas—PC-21—New System

Discrimination Complaint Files—PC-4—Modified System

Early Termination and Special Action—PC-25—New System

Employee Occupational Injury and Illness Reports—PC-5—Modified System

Employee Pay and Leave Records—PC-6—Modified System

Former Peace Corps Volunteers and Staff Database—PC-18—Modified System

Health Benefits Program for Peace Corps Volunteers—PC-23—New System

Legal Files—Staff, Volunteers and Applicants—PC-8—Modified System

Office of Inspector General Investigative Records—PC-19—Modified System

Office of Private Sector Cooperation and International Volunteerism Database—PC-10—Modified System

Overseas Executive Selection and Support—PC-15—Modified System

Payment Records: Transportation, Travel Authorizations, and Household Storage—PC-9—Modified System

Peace Corps Volunteer Database Management System—PC-17—Modified System

Peace Corps Volunteers: Reasons for Resignation—PC-7—Modified System

Personal Services Contracts—PC-11—Modified System

Personal Security Records—PC-13—Modified System

Privacy and Freedom of Information Act Requests—PC-24—New System

Property Records—PC-12—Modified System

Travel Files—PC-16—Modified System

Volunteer Health Record—PC-22—Modified System

II. General Routine Uses Applicable to More Than One System of Records

A. Disclosure for Law Enforcement Purposes. Information may be disclosed to the appropriate Federal, State, local, or foreign agency responsible for investigating, prosecuting, enforcing, or implementing a statute, rule, regulation, or order, if the information indicates a violation or potential violation of civil or criminal law or regulation within the jurisdiction of the receiving entity.

B. Disclosure Incident to Requesting Information. Information may be disclosed to any source from which additional information is requested (to the extent necessary to identify the individual, inform the source of the purpose(s) of the request, or to identify the type of information requested); when necessary to obtain information relevant to a Peace Corps decision concerning retention of an employee or other personnel action (other than hiring), retention of a security clearance, the letting of a contract, or the issuance or retention of a grant or other benefit.

C. Disclosure to Requesting Agency. Information may be disclosed to a Federal, State, local, or other public authority of the fact that this system of records contains information relevant to the requesting agency's retention of an employee, the retention of a security clearance, the letting of a contract, or the issuance or retention of a license, grant, or other benefit. The other agency or licensing organization may then make a request supported by the written consent of the individual for part or all of the record if it so chooses. No disclosure will be made unless the information has been determined to be sufficiently reliable to support a referral to another office within the agency or to another Federal agency for criminal, civil, administrative, personnel, or regulatory action.

D. Disclosure to Office of Management and Budget. Information may be disclosed to the Office of Management and Budget at any stage in the legislative coordination and clearance process in connection with private relief legislation as set forth in OMB Circular No. A-19.

E. Disclosure to Congressional Offices. Information may be disclosed to a congressional office from the record of an individual in response to an inquiry from the congressional office made at the request of the individual.

F. Disclosure to Department of Justice. Information may be disclosed for purposes of litigation, provided that in each case the disclosure is compatible with the purpose for which the records were collected. Disclosure for these purposes may be made to the Department of Justice, or in a proceeding before a court, adjudicative body, or other administrative body before which the Peace Corps is authorized to appear. This disclosure may be made when:

1. The Peace Corps, or any component thereof;

2. Any employee of the Peace Corps in his or her official capacity;

3. Any employee of the Peace Corps in his or her individual capacity where the Department of Justice or the Peace Corps has agreed to represent the employee; or

4. The United States (when the Peace Corps determines that litigation is likely to affect the Peace Corps or any of its components); is a party to litigation or has an interest in such litigation, and the use of such records by the Department of Justice or the Peace Corps is deemed by the Peace Corps to be relevant and necessary to the litigation.

G. Disclosure to the National Archives. Information may be disclosed to the National Archives and Records Administrative in records management inspections.

H. Disclosure to Contractors, Grantees, and Others. Information may be disclosed to contractors, grantees, consultants, or Volunteers performing or working on a contract, service, grant, cooperative agreement, job, or other activity for the Peace Corps and who have a need to have access to the information in the performance of their duties or activities for the Peace Corps. When appropriate, recipients will be required to comply with the requirements of the Privacy Act of 1974 as provided in 5 U.S.C. 552a(m).

I. Disclosures for Administrative Claims, Complaints, and Appeals. Information may be disclosed to an authorized appeal grievance examiner, formal complaints examiner, equal employment opportunity investigator, arbitrator, or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management. Information may be disclosed to the Office of Personnel Management pursuant to that agency's responsibility for evaluation and oversight of Federal personnel management.

K. Disclosure in Connection with Litigation. Information may be disclosed in connection with litigation or settlement discussions regarding claims by or against the Peace Corps, including public filing with a court, to the extent that disclosure of the information is relevant and necessary to the litigation or discussions and except where court orders are otherwise required under Section (b)(11) of the Privacy Act of 1974, 5 U.S.C. 552a(b)(11).

L. Disclosure to U.S. Ambassadors. Information from this system of records may be disclosed to a U.S. Ambassador or his or her designee in a country where the Peace Corps serves when the information is needed to perform an official responsibility, to allow the Ambassador to knowledgeably respond to official inquiries and deal with in-country situations that are within the scope of the Ambassador's responsibility.

III. System Notices

PC-1

SYSTEM NAME:

Accounts Receivable (Collection of Debts Claims Records).

SYSTEM LOCATION:

Fiscal Services Division, Office of Financial Services, Peace Corps, 1111 20th St., NW., Washington, DC 20526.

CATEGORIES OF INDIVIDUALS COVERED BY THE SYSTEM:

Any former or current Peace Corps employee, Volunteer, or other individual erroneously overpaid by the Peace Corps or who has an advance outstanding from the Peace Corps.

CATEGORIES OF RECORDS IN THE SYSTEM:

Names and addresses of individuals indebted to Peace Corps including the date of the debt, claim number, amount of the debt, related correspondence, and a copies of checks and the date the debt was paid if payment has occurred,

AUTHORITY FOR MAINTENANCE OF THE SYSTEM: (INCLUDES ANY REVISIONS OR AMENDMENTS):

31 U.S.C. 3711 et seq.; Pub. L. 104-134; and the Peace Corps Act, 22 U.S.C. 2501 et seq.

PURPOSES:

To record information and resolution of erroneous payments and outstanding advances made by the Peace Corps (Last revised: August 2000).

ROUTINE USES OF RECORDS MAINTAINED IN THE SYSTEM; INCLUDING CATEGORIES OF USERS AND THE PURPOSES OF SUCH USES:

General routine uses A, B, C, D, E, F, G, H, I, K, and L apply to this system.

RECORDS MAY ALSO BE DISCLOSED TO:

1. The Department of Justice in cases of administrative error involving overpayment or outstanding advances or situations in which the Peace Corps has been unable to collect a debt; or

2. The Department of Treasury for debt collection.

POLICIES AND PRACTICES FOR STORING, RETRIEVING, ACCESSING, RETAINING, AND DISPOSING OF RECORDS IN THE SYSTEM:

STORAGE:

On paper and in a computerized database.

RETRIEVABILITY:

By name or claim number.

SAFEGUARDS:

Computer records are maintained in a secure, password-protected computer system. Paper records are maintained in lockable file cabinets. All records are maintained in secure, access-controlled areas or buildings.

RETENTION AND DISPOSAL:

Records are kept until settlement of a claim and then retired to the Federal Records Center to be destroyed in accordance with General Records Schedule 6.1.2.

SYSTEM MANAGERS AND ADDRESS:

Director, Fiscal Services Division, Office of Financial Services, Peace Corps, 1111 20th St., NW., Washington, DC 20526.

NOTIFICATION, ACCESS, AND CONTESTING RECORD PROCEDURES:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

RECORD SOURCE CATEGORIES:

Peace Corps offices making payments or travel advances.

PC-2

SYSTEM NAME:

Congressional Files.

SYSTEM LOCATION:

Congressional Relations, Peace Corps, 1111 20th St., NW., Washington, DC 20526.

CATEGORIES OF INDIVIDUALS COVERED BY THE SYSTEM:

Members of Congress and Peace Corps Volunteers.

CATEGORIES OF RECORDS IN THE SYSTEM:

Bio-data and voting records of Members of Congress, incoming and outgoing correspondence with Members of Congress; and records regarding concerns of Members of Congress affecting the Peace Corps.

AUTHORITY FOR MAINTENANCE OF THE SYSTEM: (INCLUDES ANY REVISIONS OR AMENDMENTS):

The Peace Corps Act, 22 U.S.C. 2501 et seq.

PURPOSE(S):

To track communications with members of Congress and congressional concerns affecting the Peace Corps (Last Revised: August 2000).

ROUTINE USES OF RECORDS MAINTAINED IN THE SYSTEM, INCLUDING CATEGORIES OF USERS AND THE PURPOSES OF SUCH USES:

General routine uses A, E, F, G, K, and L apply to this system.

POLICIES AND PRACTICES FOR STORING, RETRIEVING, ACCESSING, RETAINING, AND DISPOSING OF RECORDS IN THE SYSTEM:

STORAGE:

On paper and in a computerized database.

RETRIEVABILITY:

By name, congressional committee, Congress member, or state.

SAFEGUARDS:

Computer records are maintained in a secure, password-protected computer system. Paper records are maintained in lockable file cabinets. All records are maintained in secure, access-controlled areas or buildings.

RETENTION AND DISPOSAL:

Records are kept on-site for five years, then retired to the Federal Center to be stored for ten years and then destroyed.

SYSTEM MANAGERS AND ADDRESS:

Director, Congressional Relations, Peace Corps, 1111 20th St., NW., Washington, DC 20526.

NOTIFICATION, ACCESS, and CONTESTING RECORD PROCEDURES:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

RECORD SOURCE CATEGORIES:

Record subject, Peace Corps staff, and publications such as the Congressional Record, periodicals, and standard reference publications.

PC-3

SYSTEM NAME:

Contractors and Consultants Files.

SYSTEM LOCATION:

Center for Field Assistance and Applied Research, Peace Corps, 1111 20th St., NW., Washington, DC 20526.

CATEGORIES OF INDIVIDUALS COVERED BY THE SYSTEM:

Contractors or consultants for Peace Corps programs.

CATEGORIES OF RECORDS IN THE SYSTEM:

Correspondence, resumes, and other materials pertaining to personal services contractors or consultants.

AUTHORITY FOR MAINTENANCE OF THE SYSTEM: (INCLUDES ANY REVISIONS OR AMENDMENTS):

The Peace Corps Act, 22 U.S.C. 2501 et seq.

PURPOSE(S):

To identify and track personal services contractor or consultants for Peace Corps program needs (Last Revised: August 2000).

ROUTINE USES OF RECORDS MAINTAINED IN THE SYSTEM, INCLUDING CATEGORIES OF USERS AND THE PURPOSES OF SUCH USES:

General routine uses A, B, C, D, E, F, G, H, J, K, and L apply to this system.

POLICIES AND PRACTICES FOR STORING, RETRIEVING, ACCESSING, RETAINING, AND DISPOSING OF RECORDS IN THE SYSTEM:

STORAGE:

On paper and in a computerized database.

RETRIEVABILITY:

By name, address, telephone number, social security number, salary history, skill categories, performance evaluations, and country to which work pertains.

SAFEGUARDS:

Computer records are maintained in a secure, password-protected computer system. Paper records are maintained in lockable file cabinets. All records are maintained in secure, access-controlled areas or buildings.

RETENTION AND DISPOSAL:

Records are kept on-site for four years after becoming inactive and then destroyed.

SYSTEM MANAGER(S) AND ADDRESS:

Chief, Resource Development Division, Center for Field Assistance and Applied Research, Peace Corps, 1111 20th St., NW., Washington, DC 20526.

NOTIFICATION, ACCESS, AND CONTESTING RECORD PROCEDURES:

To the extent permitted under the Privacy Act of 1974, 5 U.S.C. 552a(k)(5), this system has been exempted from the provisions of the Privacy Act of 1974 that permit access and correction. The Peace Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR Part 308.

RECORD SOURCE CATEGORIES:

Record subject and persons consulted as references.

SYSTEMS EXEMPTED FROM CERTAIN PROVISIONS OF THE ACT:

PURSUANT TO 5 U.S.C. 552a(k)(5), THIS SYSTEM IS EXEMPT FROM THE FOLLOWING PROVISIONS OF THE PRIVACY ACT OF 1974, SUBJECT TO THE LIMITATIONS SET FORTH IN THAT SUBSECTION:

U.S.C. 552a (c)(3), (d), (e)(1), (e)(4)(G), (e)(4)(H), and (f ).

PC-4

SYSTEM NAME:

Discrimination Complaint Files.

SYSTEM LOCATION:

American Diversity Program, Peace Corps, 1111 20th St., NW, Washington, DC 20526.

CATEGORIES OF INDIVIDUALS COVERED BY THE SYSTEM:

Any employee, volunteer, or applicant for employment or Volunteer service who has filed a complaint of discrimination against the Peace Corps.

CATEGORIES OF RECORDS IN THE SYSTEM:

Complaints, copies of personnel records, investigatory materials and affidavits, correspondence related to complaints, and information as to how the complaint was resolved.

AUTHORITY FOR MAINTENANCE OF THE SYSTEM: (INCLUDES ANY REVISIONS OR AMENDMENTS):

22 U.S.C. 2504(a); 42 U.S.C. 2000e-16; 42 U.S.C. 5057; 29 U.S.C. 206; 29 U.S.C. 633a; 29 U.S.C. 791; 29 U.S.C. 794a; E.O. 11478, and 29 CFR 300 and 1614.

PURPOSE(S):

To record actions taken on complaints of discrimination against the Peace Corps (Last Revised: August 2000).

ROUTINE USES OF RECORDS MAINTAINED IN THE SYSTEM; INCLUDING CATEGORIES OF USERS AND THE PURPOSES OF SUCH USES:

General routine uses A, B, C, D, E, F, G, H, I, K, and L apply to this system.

POLICIES AND PRACTICES FOR STORING, RETRIEVING, ACCESSING, RETAINING, AND DISPOSING OF RECORDS IN THE SYSTEM:

STORAGE:

On paper and in a computerized database.

RETRIEVABILITY:

By employee name and case number.

SAFEGUARDS:

Paper records are maintained in lockable file cabinets. Computer records are maintained in a secure, password-protected computer system. All records are maintained in secure, access-controlled areas or buildings.

RETENTION AND DISPOSAL:

Records are kept until settlement of a claim and then retired to the Federal Records Center to be destroyed in accordance with General Records Schedule 6.1.2. Records are destroyed four years after the close of the case.

SYSTEM MANAGER(S) AND ADDRESS:

Director, American Diversity Program, Peace Corps, 1111 20th St., NW, Washington, DC 20526.

NOTIFICATION, ACCESS, AND CONTESTING RECORD PROCEDURES:

To the extent permitted under the Privacy Act of 1974, 5 U.S.C. 552a(k)(2) and (5), this system has been exempted from the provisions of the Privacy Act of 1974 that permit access and correction. The Peace Corps may, in its discretion, fully grant individual requests for access and correction if it determines that exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document, Additional identification may be required in some instances. Requests for correction or amendment must identify the record to be changed and the corrective action sought. Complete Peace Corps Privacy Act procedures are set out in 22 CFR Part 308.

RECORD SOURCE CATEGORIES:

Record subject, Peace Corps staff and Volunteers, and others with information relevant to resolving discrimination complaint.

SYSTEMS EXEMPTED FROM CERTAIN PROVISIONS OF THE ACT:

Pursuant to 5 U.S.C. 552a(k)(2) and (5), this system is exempt from the following provisions of the Privacy Act of 1974, subject to the limitations set forth in those subsections:

5 U.S.C. 552a (c)(3), (d), (e)(1), (e)(4)(G), (e)(4)(H), and (f).

PC-5

SYSTEM NAME:

Employee and Volunteer Occupational Injury and Illness Reports.

SYSTEM LOCATION:

Office of Medical Services, Peace Corps, 1111 20th St., NW., Washington, DC 20526; in Peace Corps offices in eleven U.S. cities; and in countries with Peace Corps programs while the record subject is serving as a volunteer there.

CATEGORIES OF INDIVIDUALS COVERED BY THE SYSTEM:

Peace Corps employees who have job-related injuries or illnesses; and Volunteers who have service-related injuries or illnesses.

CATEGORIES OF RECORDS IN THE SYSTEM:

Name, address, telephone number, date of birth, social security number, FECA, case file number, sex, dates of service, country in which served, reports of occupational injuries and illnesses and associated medical reports including x-rays.

AUTHORITY FOR MAINTENANCE OF THE SYSTEM: (INCLUDES ANY REVISIONS OR AMENDMENTS):

29 U.S.C. 668; 5 U.S.C. 8101 et seq.; and the Peace Corps Act, 22 U.S.C. 2501 et seq.

PURPOSE(S):

To record information and resulting actions pertaining to employee and Volunteer occupational injuries and illnesses (Last Revised: August 2000).

ROUTINE USES OF RECORDS MAINTAINED IN THE SYSTEM; INCLUDING CATEGORIES OF USERS AND THE PURPOSE OF SUCH USES:

General routine uses A, B, C, D, E, F, G, H, I, J, K, and L apply to this system.

RECORDS MAY ALSO BE DISCLOSED TO:

1. The record subject upon the subject's request;

2. The Occupational Safety and Health Administration, Department of Labor, for employment- or service-related injuries or illnesses; or

3. The Office of Workers' Compensation Programs, Department of Labor, for workers' compensation claims.

POLICIES AND PRACTICES FOR STORING, RETRIEVING, ACCESSING, RETAINING, AND DISPOSING OF RECORDS IN THE SYSTEM:

STORAGE:

On paper and in a computerized database.

RETRIEVABILITY:

By name, social security number, FECA case file number, and country of service.

SAFEGUARDS:

Paper records are maintained in a lockable file room. Computer records are maintained in a secure, password-protected computer system. All records are maintained in secure, access-controlled areas or buildings.

RETENTION AND DISPOSAL:

Workers' compensation records are retained on-site until inactive, then retired to the Federal Records Center for 15 years, after which they are destroyed.

SYSTEM MANAGER(s) AND ADDRESS:

Director, Office of Medical Services, Peace Corps, 1111 20th St., NW., Washington, DC 20526; Director, Peace Corps regional offices; and Country Director in countries with Peace Corps programs.

NOTIFICATION, ACCESS, AND CONTESTING RECORD PROCEDURES:

To the extent permitted under the Privacy Act of 1974, 5 U.S.C. 552a(k)(5), this system has been exempted from the provisions of the Privacy Act of 1974 that permit access and correction. The Peace Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

RECORD SOURCE CATEGORIES:

Record subject, Peace Corps supervisors, physicians and other health care providers, other medical sources including laboratories, and debt collection agencies.

SYSTEMS EXEMPTED FROM CERTAIN PROVISIONS OF THE ACT:

Pursuant to 5 U.S.C. 552a(k)(5), this system is exempt from the following provisions of the Privacy Act of 1974, subject to the limitations set forth in that subsection: 5 U.S.C. 552a (c)(3), (d), (e)(1), (e)(4)(G), (e)(4)(H), and (f).

PC-6

SYSTEM NAME:

Employee Pay and Leave Records.

SYSTEM LOCATION:

Office of Human Resource Management, Peace Corps, 1111 20th St., NW., Washington, DC 20526.

CATEGORIES OF INDIVIDUALS COVERED BY THE SYSTEM:

Peace Corps employees.

CATEGORIES OF RECORDS IN THE SYSTEM:

Personnel actions, savings bond applications, allotment advices, IRS tax levels, notice of deduction for health insurance, Combined Federal Campaign contributions, union dues withholdings applications, educational allowances for children of overseas employees, records concerning collections for overpayments, and time and attendance records.

AUTHORITY FOR MAINTENANCE OF THE SYSTEM: (INCLUDES ANY REVISIONS OR AMENDMENTS):

5 U.S.C. 5525 et seq.; 5 U.S.C. 5501 et seq.; 5 U.S.C. 5701; 5 U.S.C. 6301 et seq.; and 31 U.S.C. 3512.

PURPOSE(S):

To record moneys paid, allotments authorized, leave earned and used, and retirement benefits earned (Last Revised: August 2000).

ROUTINE USES OF RECORDS MAINTAINED IN THE SYSTEM; INCLUDING CATEGORIES OF USERS AND THE PURPOSES OF SUCH USER:

General routine uses A, B, C, D, E, F, G, H, I, J, K, and L apply to this system.

RECORDS MAY ALSO BE DISCLOSED TO:

1. The Treasury Department for the purpose of payroll, savings bonds or other deductions, or effecting administrative offset against the debtor to recoup a delinquent debt to the U.S. Government by the debtor;

2. To the Internal Revenue Service for tax matters;

3. To participating insurance companies holding policies with respect to Peace Corps employees; or

4. To a Federal agency to perform payroll services for the Peace Corps.

POLICIES AND PRACTICES FOR STORING, RETRIEVING, ACCESSING, RETAINING, AND DISPOSING OF RECORDS IN THE SYSTEM:

STORAGE:

On paper and in a computerized database.

RETRIEVABILITY:

By name and social security number (computer data base only).

SAFEGUARDS:

Paper records are maintained in lockable file cabinets. Computer records are maintained in a secure, password-protected computer system. All records are maintained in secure, access-controlled areas or buildings.

RETENTION AND DISPOSAL:

Paper records are maintained for three years after an employee terminates employment with the Peace Corps and then destroyed.

SYSTEM MANAGER(S) AND ADDRESS:

Director, Office of Human Resource Management, Peace Corps, 1111 20th St., NW., Washington, DC 20526.

NOTIFICATION, ACCESS, AND CONTESTING RECORD PROCEDURES:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

RECORD SOURCE CATEGORIES:

Record subject.

PC-7

SYSTEM NAME:

Peace Corps Volunteers: Reasons for Resignation.

SYSTEM LOCATION:

Office of Planning, Policy, and Analysis, Peace Corps, 1111 20th St., NW, Washington, DC 20526.

CATEGORIES OF INDIVIDUALS COVERED BY THE SYSTEM:

Current and former Peace Corps volunteers.

CATEGORIES OF RECORDS IN THE SYSTEM:

Name, social security number, codes reflecting the reasons for resignation as identified by the volunteer and Country Staff, training class, country of service, projected close of service date, and actual close of service date.

AUTHORITY FOR MAINTENANCE OF THE SYSTEM:

The Peace Corps Act, 22 U.S.C. 2501 et seq.

PURPOSE(S):

To provide feedback from Peace Corps volunteers for improving agency programs and services. To provide a basis for assessing the record subject's suitability for Peace Corps staff employment, employment as a personal services contractor, or volunteer service. (Last revised: August 2000).

ROUTINE USES OF RECORDS MAINTAINED IN THE SYSTEM; INCLUDING CATEGORIES OF USERS AND THE PURPOSES OF SUCH USES:

General routine uses E, F, H, and K apply to this system.

POLICIES AND PRACTICES FOR STORING, RETRIEVING, ACCESSING, RETAINING, AND DISPOSING OF RECORDS IN THE SYSTEM:

STORAGE:

On paper and in a computerized database.

RETRIEVABILITY:

By name or identifying number.

SAFEGUARDS:

Computer records are maintained in a secure, password-protected computer system. Paper records are maintained in lockable file cabinets. All records are maintained in secure, access-controlled areas or buildings.

RETENTION AND DISPOSAL:

Paper records are maintained until data is entered into the computer system; electronic records are maintained for the life of the agency.

SYSTEM MANAGER(S) AND ADDRESS:

Director, Office of Planning, Policy, and Analysis, Peace Corps, 1111 20th St., NW, Washington, DC 20526.

NOTIFICATION, ACCESS AND CONTESTING RECORD PROCEDURES:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedure are set out in 22 CFR part 308.

Record source categories:

Record subject.

PC-8

System name: Legal Files—Staff, Volunteers, and Applicants. System location:

Office of the General Counsel, Peace Corps, 1111 20th St., NW, Washington, DC 20526.

Categories of individuals covered by the system:

Peace Corps staff, volunteers, and applicants for employment or volunteer service.

Categories of records in the system:

Records pertaining to employee administrative and EEO grievances, wage garnishments, appeals from adverse actions, claims by and against staff members, claims by and against volunteers, litigation involving Peace Corps staff or volunteers, and legal queries from staff members.

Authority for maintenance of the system: (Includes any revisions or amendments):

The Peace Corps Act, 22 U.S.C. 2501 et seq.

Purpose(s):

To support legal representation of the Peace Corps and to provide legal counsel to the Director of the Peace Corps, the Director's designees, and Peace Corps staff (Last Revised: August 2000).

Routine uses of records maintained in the system, including categories of users and the purposes of such uses:

General routine uses A, B, C, D, E, F, G, H, I, K, and L apply to this system.

Policies and practices for storing, retrieving, accessing, retaining, and disposing of records in the system:

Storage:

On paper and in a computerized database.

Retrievability:

By name.

Safeguards:

Paper records are maintained in lockable file cabinets. Computer records are maintained in a secure, password-protected computer system. All records are maintained in secure, access-controlled areas or buildings.

Retention and disposal:

Files are retired to the Federal Records Center consistent with the Peace Corps Records management Handbook where they are maintained for 30 years and then destroyed.

System Manager(s) and address:

General Counsel, Peace Corps, 1111 20th St., NW., Washington, DC 20526.

Notification, access, and contesting, record procedures:

To the extent permitted under the Privacy Act of 1974, 5 U.S.C. 552a (k) (1), (2), and (5), this system has been exempted from the provisions of the Privacy Act of 1974 that permit access and correction. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject, and correspondence and reports from persons and agencies dealing with the Peace Corps.

Systems exempted from certain provisions of the act:

Pursuant to 5 U.S.C. 552a (k) (1), (2), and (5), this system is exempt from the following provisions of the Privacy Act of 1974, subject to the limitations set forth in those subsections: 5 U.S.C. 552a (c)(3), (d), (e)(1), (e)(4)(G), (e)(4)(H), and (f).

PC-9

System name:

Payment Records: Transportation, Travel Authorizations, and Household Storage.

System location:

Fiscal Services Division, Office of Financial Services, Peace Corps, 1111 20th St., NW., Washington, DC 20526.

Categories of individuals covered by the system:

Any current or former Peace Corps employee, volunteer or other individual traveling for Peace Corps and paid through contract, purchase order, or travel order.

Categories of records in the system:

Invoices received, amount paid, payment vouchers and associated documents, schedule number, contract or purchase order number, type of payment (advance, partial, or final), travel authorizations, travel vouchers, receipts, and other materials related to official travel.

Authority for maintenance of the system: (Includes any revisions or amendments):

5 U.S.C. 5701 et seq.; 31 U.S.C. 3512; 31 U.S.C. 3901 et seq.; and the Peace Corps Act, 22 U.S.C. 2501 et seq.

PURPOSES

To record payments made as a result of purchase orders, travel authorizations, or other authorization documents (Last Revised: August 2000).

Routine uses of records maintained in the system, including categories of users and the purposes of such uses:

General routine uses A, C, D, E, F, G, H, I, K, and L apply to this system.

Records may also be disclosed to:

1. The Department of Treasury for disbursement to vendors and travelers; or

2. To a household storage vendor in the event of a discrepancy between the vendor's and Peace Corps' records.

Policies and practices for storing, retrieving, accessing, retaining, and disposing of records in the system:

Storage:

On paper and in a computerized database.

Retrievability:

By employee name or schedule number.

Safeguards:

Computer records are maintained in a secure, password-protected computer system. Paper records are maintained in lockable file cabinets. All records are maintained in secure, access-controlled areas or buildings.

Retention and disposal:

Records are kept until settlement of a claim and then retired to the Federal Records Center to be destroyed in accordance with General Records Schedule 6.1.2.

System Manager(s) and address:

Director, Fiscal Services Division, Office of Financial Services, Peace Corps, 1111 20th St., NW., Washington, DC 20526.

Notification, access, and contesting record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject and Peace Corps authorizing offices.

PC-10

System name:

Office of Private Sector Cooperation and International Volunteerism Database.

System location:

Office of Private Sector Cooperation and International Volunteerism, Peace Corps, Office of Private Sector Development, 1111 20th St., N.W., Washington, DC 20526.

Categories of individuals covered by the system:

Individuals making donations to Peace Corps partnership projects or inquiring about partnership projects; volunteers.

Categories of records in the system:

For donors: name, address, telephone number, birth date, and contribution amount; for volunteers: name, address, and close of service date.

Authority for maintenance of the system: (Includes any revisions or amendments):

The Peace Corps Act, 22 U.S.C. 2501 et. seq.

Purpose(s):

To record and track donors and donations to the Peace Corps partnership projects (Last Revised: August 2000).

Routine uses of records maintained in the system including categories of users and the purposes of such uses:

General routine uses A, D, E, F, G, H, I, K, and L apply to this system.

Policies and practices for storing, retrieving, accessing, retaining, and disposing of records in the system:

Storage

On paper and in a computerized database.

Retrievability:

By name or project number.

Safeguards:

Computer records are maintained in a secure, password-protected computer system. Paper records are maintained in lockable file cabinets. All records are maintained in secure, access-controlled areas or buildings.

Retention and disposal:

Records are kept until three years after completion of project, and then retired to the Federal Records Center to be maintained and destroyed in accordance with General Records Schedule 6.1.2.

System Manager(s) and address:

Director, Office of Private Sector Cooperation and International Volunteerism, Peace Corps, Office of Private Sector Development, 1111 20th St., NW, Washington, DC 20526.

Notification, access, and contesting record procedures:

Any individual who wants to know whether this system of records contains a record about him or her, who wants access to his or her record, or who wants to contest the contents of a record, should make a written request to the System Manager. Requesters will be required to provide adequate identification, such as driver's license, employee identification card, or other identifying document. Additional identification may be required in some instances. Requests for correction or amendment must identify the record to be changed and the corrective action sought. Complete Peace Corps Privacy Act procedures are set out in 22 CFR part 308.

Record source categories:

Record subject and Peace Corps volunteers.

PC-11

System name:

Personal Services Contracts.

System location:

Office of Contracts, Peace Corps, 1111 20th St., NW., Washington, DC 20526.

Categories of individuals covered by the system:

Personal services contractors for the Peace Corps.

Categories of records in the system:

History of service or performance, including earning records of individuals hired as personal services contractors.

Authority for maintenance of the system: Includes any revisions or amendments):

The Peace Corps Act, 22 U.S.C. 2501 et seq.; and Federal Acquisition Regulations, 48 CFR Chapters 1-99.

Purpose(s):

For determining personal services contractor's eligibility for employment and pay determinations; for determining accountability and liability of parties under the personal services contract, and other contract issues (Last Revised: August 2000).

Routine uses of records maintained in the system, including categories of users and the purposes of such uses:

General routine uses A, B, C, D, E, F, G, H, K, and L apply to this system.

Policies and practices for storing, retrieving, accessing, retaining, and disposing of records in the system:

Storage:

On paper and in a computerized database.

Retrievability:

By name or contract number.

Safeguards:

Paper records are maintained in locked file cabinets in a secure room. Computer records are maintained in a secure, password-protected computer system. All records are maintained in secure, access-controlled areas or buildings.

Retention and disposal:

Records in the system are maintained on site for one year after the closing date of the contract, then sent to the Federal Records Center where they are maintained for three years if the contract amount is $25,000 or less, and for six years and three months if the contract amount is greater than $25,000, and then destroyed.

System Manager(s) and address:

Director, Office of Contracts, 1111 20th St., N.W., Washington, DC 20526.

Notification, access, and contesting record procedures:

To the extent permitted under the Privacy Act of 1974, 5 U.S.C. 552a(k)(5), this system has been exempted from the provisions of the Privacy Act of 1974 that permit access and correction. However, the Peace Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject, Peace Corps staff, and outside sources used as references for those applying as contractors.

Systems exempted from certain provisions of the Act:

Pursuant to 5 U.S.C. 552a(k)(5), this system is exempt from the following provisions of the Privacy Act of 1974, subject to the limitations set forth in that subsection:

5 U.S.C. 552a (c)(3), (d), (e)(1), (e)(4)(G), (e)(4)(H), and (f).

PC-12

System name:

Property Records.

System location:

At each overseas Peace Corps office and in Administrative Services, Peace Corps, 1111 20th St., NW., Washington, DC 20526.

Categories of individuals covered by the system:

Name, room number, and country of assignment for Peace Corps staff and volunteers who have physical property assigned to them.

Categories of records in the system:

U.S. Government property assigned to Peace Corps staff or volunteers.

Authority for maintenance of the system (Includes any revisions or amendments):

40 U.S.C. 483(b) and (c); and the Peace Corps Act, 22 U.S.C. 2501, et seq.

Purpos(e):

To record and account for U.S. Government property assigned to Peace Corps staff and volunteers (Last Revised: August 2000).

Routine uses of records maintained in the system, including categories of users and the purposes of such uses:

General routine uses A, C, D, E, F, G, H, I, K, and L apply to this system. Records may also be discovered to the Department of State or General Services Administration to account for the disposition of Federal property.

Policies and practices for storing, retrieving, accessing, retaining, and disposing of records in the system:

Storage:

On paper and in computerized databases.

Retrievability:

By name, room number, or country.

Safeguards:

Computer records are maintained in a secure, password-protected computer system. Paper records are maintained in lockable file cabinets. All records are maintained in secure, access-controlled areas or buildings.

Retention and disposal:

Records are retained at overseas posts for two years after the Peace Corps staff member or volunteer terminates assignment, then destroyed. Headquarters records are retained for five years, then retired to the Federal Records Center and destroyed after 20 years.

System Manager(s) and address:

For overseas records, Country Directors in each country in which Peace Corps maintains a program. For headquarters records, Director, Office of Administrative Services, Peace Corps, 1111 20th St., NW., Washington, DC 20526.

Notification, access, and contesting record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Peace Corps staff and volunteers.

PC-13

System name:

Personnel Security Records.

Security classification:

Some classified information may be included in this system.

System location:

Security Office, Office of Human Resource Management/Security Office, Peace corps, 1111 20th St., NW., Washington, DC 20526.

Categories of individuals covered by the system:

Current and former applicants for Peace Corps staff employment and volunteer service; and individuals considered for access to classified information or restricted areas and/or personnel security determinations as contractors and experts.

Categories of records in the system:

Investigative information regarding an individual's character, conduct, background, and behavior.

Authority for maintenance of the system: (Includes any revisions or amendments):

E.O. 10450; The Peace Corps Act, 22 U.S.C. 2501 et seq.

Purpose(s):

To record information used to determine eligibility or suitability for employment or volunteer service, including eligibility to serve as a Peace Corps contractor. (Last Revised: August 2000).

Routine uses of records maintained in the system, including categories of users and the purposes of such uses:

General routine uses A, B, C, D, E, F, G, H, I, J, K, and L apply to this system.

Policies and practices for storing, retrieving, accessing, retaining, and disposing of records in the system:

Storage:

On Page and in a computerized database.

Retrievability:

By name.

Safeguards:

Available only to employees with appropriate security clearance and a need to know. Computer records are maintained in a secure, password-protected computer system. Paper records are maintained in lockable file cabinets. All records are maintained in secure, access-controlled areas or buildings.

Retention and disposal:

Records are maintained in the Security Office in the Office of Human Resources for seven years from the date of the last investigative activity and then destroyed.

System Manager(s) and address:

Director, Personnel Security Staff, Office of Human Resource Management, Peace Corps, 1111 20th St., NW., Washington, DC 20526.

Notification, access, and contesting record procedures:

To the extent permitted under the Privacy Act of 1974, 5 U.S.C. 552a(k) (1), (2), and (5), this system has been exempted from the provisions of the Privacy Act of 1974 that permit access and correction. The Peace Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requester will be required to provide adequate identification, such as a driver's license, employee identification card, or other identifying document that includes the requester's social security number and full signature. Additional information may be required in some instances. Requests for correction or amendment must identify the record to be changed and the corrective action sought. Complete Peace Corps Privacy Act procedures are set out in 22 CFR part 308.

Record source categories:

Record subjects; Federal agencies; employers, schools, references, and other sources of information about the record subject.

Systems exempted from certain provisions of the Act:

Pursuant to 5 U.S.C. 552a(k) (1), (2), and (5), this system is exempt from the following provisions of the Privacy Act of 1974, subject to the limitations set forth in those subsections: 5 U.S.C. 552a (c)(3), (d), (e)(1), (e)(4)(G), (e)(H), and (f).

PC-14

System name:

Administrative Grievance Records.

System location:

Office of Human Resource Management, Peace Corps, 1111 20th St., NW., Washington, DC 20526.

Categories of individuals covered by the system:

Peace Corps staff who have filed an administrative grievance or grievance appeal or have filed a complaint with the Merit Systems Protection Board, Federal Labor Relations Authority, Federal Mediation and Conciliation Service, or other organization.

Categories of records in the system:

Grievance, appeal, and arbitration files containing petitions, complaints, charges, evidentiary materials, records of hearings or other matters regarding administrative grievances or arbitration.

Authority for maintenance of the system; (Includes any revisions or amendments):

5 U.S.C. chapters 71-79; and E.O. 11491.

Purpose(s):

To resolve administrative complaints or grievances (Last Revised: August 2000).

Routine uses of records maintained in the system, including categories of users and the purposes of such uses:

General routine uses A, B, C, D, E, F, G, H, I, J, K, and L apply to this system.

Policies and practices for storing, retrieving, accessing, retaining, and disposing of records in the system:

Storage:

On paper and in a computerized database.

Retrievability:

By name or social security number.

Safeguards:

Computer records are maintained in a secure, password-protected computer system. Paper records are maintained in Lockable file cabinets. All records are maintained in secure, access-controlled areas or buildings.

Retention and disposal:

Records are retired to the Federal Records Center to be maintained and then destroyed 25 years after the close of the case.

System Manager(s) and address:

Director, Office of Human Resource management, Peace Corps, 1111 20th St., NW., Washington, DC 20526.

Notification, access, and contesting record procedures:

To the extent permitted under the Privacy Act of 1974, 5 U.S.C. 552a(k)(5), this system has been exempted from the provisions of the Privacy Act of 1974 that permit access and correction. The Peace Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subjects; witnesses to any occurrences giving rise to a grievance, appeal or other action; hearing records and affidavits and other documents used or usable in connection with grievance, appeal, and arbitration hearings.

Systems exempted from certain provisions of the act:

Pursuant to 5 U.S.C. 552a(k)(5), this system is exempt from the following provisions of the Privacy Act of 1974, subject to the limitations set forth in that subsection: 5 U.S.C. 552a (c)(3), (d), (e)(1), (e)(4)(G) (e)(4)(H), and (f).

PC-15

System name:

Overseas Executive Selection and Support.

System location:

Overseas Executive Selection and Support, Peace Corps, 1111 20th St., NW., Washington, DC 20526.

Categories of individuals covered by the system:

Applicants for Peace Corps Country Director positions.

Categories of records in the system:

Name, address, telephone number, social security number, professional resume, letter of interest, personal essay, and other background information regarding qualifications for Peace Corps Country Director.

Authority for maintenance of the system (Includes any revisions or amendments):

The Peace Corps Act, 22 U.S.C. 2501 et seq.

Purpose(s):

To supply qualified applicants for Country Director positions with the Peace Corps (Last Revised: August 2000).

Routine uses of records maintained in the system, including categories of users and the purposes of such uses:

General routine uses A, D, E, F, G, I, J, K, and L apply to this system.

Policies and practices for storing, retrieving, accessing, retaining, and disposing of records in the system:

Storage:

On paper and in computerized database.

Retrievability:

By name.

Safeguards:

Paper records are maintained in locked file cabinets in a secure room. Computer records are maintained in a secure, password-protected computer system. All records are maintained in secure, access-controlled areas or buildings.

Retention and disposal:

Applications not resulting in appointment are destroyed after two years. Applications resulting in appointment are forwarded to the Official Personnel Folder maintained by Human Resource Management and disposed of in accordance with the record schedule for Official Personnel Folders.

System Manager(s) and Address:

Director, Overseas Executive Selection and Support, Peace Corps, 111 20th St., NW., Washington, DC 20526.

Notification, access, and contesting record procedures:

To the extent permitted under the Privacy Act of 1974, 5 U.S.C. 552a(k)(5), this system has been exempted from the provisions of the Privacy Act of 1974 that permit access and correction. The Peace Corps may, in its discretion, fully grant individuals requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR Part 308.

Record source categories:

Record subject and personal references.

Systems exempted from certain provisions of the Act:

Pursuant to 5 U.S.C. 552a(k)(5), this system is exempt from the following provisions of the Privacy Act of 1974, subject to the limitations set forth in that subsection: 5 U.S.C. 552a (c)(3), (d), (e)(1), (e)(4)(G), (e)(4)(H), and (f).

PC-16

System name:

Travel Files.

System location:

Transportation Division, Office of Administrative Services, Peace Corps, 1111 20th St., NW., Washington, DC 20526, and domestic and overseas field offices.

Categories of individuals covered by the system:

Any Peace Corps employee, volunteer, contractor, or other individual engaged in authorized official travel for the Peace Corps.

Categories of records in the system:

Travel authorizations; itineraries; Government Bills of Lading; packing letters and passport numbers for overseas travel; passports for staff, trainees and volunteers; and other travel related material.

Authority for maintenance of the system (includes any revisions or amendments):

5 U.S.C. 5701 et seq.; 31 U.S.C. 3512; 31 U.S.C. 3901 et seq.; and the Peace Corps Act, 22 U.S.C. 2501 et seq.

Purpose(s):

To account for, and issue payments as a result of, authorized official Peace Corps travel (Last Revised; August 2000).

Routine uses of records maintained in the system; including categories of users and the purposes of such uses:

General routine uses A, C, D, E, F, G, H, I, and K apply to this system. Records may also be disclosed to transportation carriers for providing transportation services.

Policies and practices for storing, retrieving, accessing, retaining, and disposing of records in the system:

Storage:

On paper.

Retrievability:

By name or by country.

Safeguards:

Paper records are maintained in lockable file cabinets. All records are maintained in secure, access-controlled areas or buildings.

Retention and disposal:

Records are maintained at Peace Corps headquarters and domestic and overseas field offices for three years after the individual leaves the agency or performs the travel, and are then destroyed.

System Manager(s) and address:

Director, Transportation Division, Office of Administrative Services, Peace Corps, 1111 20th St., NW., Washington, DC 20526 and the office heads of Peace Corps' domestic and overseas field offices.

Notification, access, and contesting record procedures:

Any individual who wants to know whether this system of records contains a record about him or her, who wants access to his or her record, or who wants to contest the contents of a record, should make a written request to the System Manager. Requesters will be required to provide adequate identification, such as a drivers license, employee identification card, or other identifying document. Additional identification may be required in some instances. Requests for correction or amendment must identify the record to be changed and the corrective action sought. Complete Peace Corps Privacy Act procedures are set out in 22 CFR part 308.

Record source categories:

Record subject, supervisors, or other Peace Corps staff.

PC-17

System name:

Peace Corps Volunteer Database Management System.

System location:

(1) Office of Volunteer Recruitment and Selection, and (2) Office of Financial Services, Peace Corps, 1111 20th St., NW, Washington, DC 20526; and (3) Peace Corps regional offices in eleven U.S. cities.

Categories of individuals covered by the system:

Current and former Peace Corps volunteers and applicants for volunteer service including Peace Corps United Nations volunteers.

Categories of records in the system:

For record systems maintained by the Office of Volunteer Recruitment and Selection and the Peace Corps regional offices:

Name, address, telephone number, social security number, racial an ethnic data if volunteered, educational background, job history, personal essays, military status, marital status, job preferences, language skills, technical skills, practical experience, and geographic preference.

For record systems maintained by the Office of Financial Services:

Pay allowance documents including correspondence, pay allowance forms, designation of beneficiary, name of next of kin, trainee registration form, and service and termination documents.

Authority for maintenance of the system:

(Includes any revisions or amendments):

The Peace Corps Act, 22 U.S.C. 2501 et seq.

Purpose(s):

To maintain records of individuals who apply for Peace Corps volunteer service, to record actions taken on the applications, and to record volunteer pay allowances (Last Revised: August 2000).

Routine uses of records maintained in the system, including categories of users and the purposes of such uses:

General routine uses A, B, C, D, E, F, G, H, I, K, and L apply to this system.

Policies and practices for storing, retrieving, accessing, retaining, and disposing of records in the systems:

Storage:

On paper and in a computerized database.

Retrievability:

By name, social security number, education, technical skills and practical experience, geographic preference, Peace Corps status (applicant, trainee, etc.).

Safeguards:

Paper records are maintained in locked file cabinets in a secure room. Computer records are maintained in a secure, password-protected computer system. All records are maintained in secure, access-controlled areas or buildings.

Retention and disposal:

Records are maintained at Peace Corps headquarters for six months after a volunteer is sent overseas, and are then sent to the Federal Records Center, where they are destroyed after seven years.

System Manager(s) and address:

(1) Director, Volunteer Recruitment and Selection, (2) Director, Office of Financial Services, Peace Corps, 111 20th St., NW, Washington, DC 20526; and (3) Directors of the Peace Corps regional offices in eleven U.S. cities.

Notification, access, and contesting record procedures:

To the extent permitted under the Privacy Act of 1974, 5 U.S.C. 552a(k) (5), this system has been exempted from the provisions of the Privacy Act of 1974, that permit access and correction. The Pease Corps may, in its discretion, fully grant individual requests for access and correction if it determines that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification maybe required in some instances. Requests for correction or amendment must identify the record to be changed and the corrective action sought. Complete Peace Corps Privacy Act procedures are set out in 22 CFR Part 308.

Record source categories:

Record subject, personal references, and educational institutions.

Systems exempted from certain provisions of the Act:

Pursuant to 5 U.S.C. 552a(k)(5), this system is exempt from the following provisions of the Privacy Act of 1974, subject to the limitations set forth in that subsection: 5 U.S.C. 552 (c)(3), (d), (e)(1), (e)(4)(G), (e)(4)(H), and (f).

PC-18

System name: Former Peace Corps Volunteers and Staff Database.

System location:

Office of Volunteer Support, Peace Corps, 1111 20th St., NW., Washington, DC 20526.

Categories of individuals covered by the system:

Former Peace Corps staff and volunteers.

Categories of records in the system:

Name; address; telephone number; social security number; date of birth; educational background; college attended; current interest in volunteer service; type of volunteer or staff duty assignment; and country of assignment.

Authority for maintenance of the system: (Includes any revisions or amendments):

The Peace Corps Act, 22 U.S.C. 2501, et seq.

Purpose(s):

To maintain contact and communications with former Peace Corps volunteers and former Peace Corps staff. (Last Revised: August 2000).

Routine uses of records maintained in the system, including categories of users and the purposes of such uses:

General routine uses A, C, D, E, G, H, and L apply to this system.

Policies and practices for storing, retrieving, accessing, retaining, and disposing of records in the sytem:

Storage:

On paper and in a computerized database.

Retrievability:

By name, social security number, and country of service.

Safeguards:

Computer records are maintained in a secure, password-protected computer system. All records are maintained in secure, access-controlled areas or buildings.

Retention and disposal:

Records are retained in the Office of Inspector General for five years, then retired to the Federal Records Center and destroyed after 50 years.

System Manager(s) and address:

Associate Director, Volunteer Support, Peace Corps, 1111 20th St., NW., Washington, DC 20526.

Notification, access, and contesting, record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject.

PC-19

System name:

Office of Inspector General Investigative Records.

System location:

Office of Inspector General, Peace Corps, 1111 20th St., NW., Washington, DC 20526.

Categories of individuals covered by the system:

Current and former Peace Corps employees, volunteers, contractors, or consultants who are subjects of investigations; witnesses, complainants, informants, suspects, or other persons who have been identified as part of the Office of Inspector General (OIG) investigative process.

Categories of records in the system:

Correspondence related to investigations; information provided by subjects, witnesses, or investigatory or law enforcement organizations; reports of investigation, including affidavits, statements, transcripts of testimony, or other documents relating to investigations.

Authority for maintenance of the system: (Includes any revisions or amendments):

The Inspector General Act of 1978, as amended, 5 U.S.C. App. 3.

Purpose(s):

To record investigations under the Inspector General Act of 1978, as amended (Last Revised: August 2000).

Routine uses of records maintained in the system; including categories of users and the purposes of such uses:

General routine uses A, B, C, D, E, F, G, H, I, J, K, and L apply to this system.

Policies and practices for storing, retrieving, accessing, retaining, and disposing of records in the system:

Storage:

On paper and in a computerized database.

Retrievability:

By name and case number.

Safeguards:

Paper records are maintained in locked file cabinets in a secure room. Computer records are maintained in a secure, password-protected computer system. All records are maintained in secure, access-controlled areas or buildings.

Retention and disposal:

Depending on the nature of the case, records are retained for periods of five or ten years and then destroyed, or are retained permanently, in accordance with approved NARA Records Disposition Schedule N1-490-95-06.

System Manager(s) and address:

Inspector General, Peace Corps, 1111 20th St., NW., Washington, DC 20526.

Notification, access, and contesting record procedures:

To the extent permitted under the Privacy Act of 1974, 5 U.S.C. 552a(k)(2), this system has been exempted from the provisions of the Privacy Act of 1974 that permit access and correction. At the Inspector General's discretion, individual requests for access and correction may be granted if it is determined that the exercise of these rights will not interfere with an interest that the exemption is intended to protect. The exemption from access is limited in some instances by law to information that would reveal the identity of a confidential source. Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject, current and former Peace Corps employees, volunteers, contractors, witnesses, complainants, informants, suspects or other persons associated with an investigation, and documents or other materials pertinent to investigations.

System exempted from certain provisions of the Act:

Pursuant to 5 U.S.C. 552a(k)(2), this system is exempt from the following provisions of the Privacy Act of 1974, subject to the limitations set forth in that subsection: 5 U.S.C. 552a (c)(3), (d), (e)(1), (e)(4)(G), (e)(4)(H), and (f).

PC-20

System name:

Building Management, Parking, and Metro Pool.

System location:

Office of Administrative Services, Peace Corps, 1111 20th St., NW, Washington, DC 20526.

Categories of individuals covered by the system:

Any Peace Corps employee, volunteer, contractor, or other individual working in agency-controlled space or applying for agency controlled parking space or Metro Pool.

Categories of records in the system:

Name, social security number, home address, room number and telephone number; application for building security pass, parking space, or Metro Pool cards; vehicle (including bicycles) year, make, state in which registered, vehicle tag, and permit number; and individually-assigned building facilities.

Authority for maintenance of the system:

41 CFR 101-20.104; 5 U.S.C. 7905; and the Peace Corps Act, 22 U.S.C. 2501 et seq.

Purpose(s):

To record information concerning building management, parking space, and Metro Pool (Last Revised: August 2000).

Routine uses of records maintained in the system; including categories of user and the purposes of such uses:

General routine uses A, B, C, D, E, F, G, H, I, and K apply to this system.

Policies and practices for storing, retrieving, accessing, retaining, and disposing of records in the system:

Storage:

On paper and in a computerized database.

Retrievability:

By name, social security number, address, room number, permit number, vehicle tag, and agency organization code.

Safeguards:

Computer records are maintained in a secure, password protected computer system. Paper records are maintained in lockable file cabinets. All records are maintained in secure, access-controlled areas or buildings. Retention and Disposal: Records are kept as long as the individual has a building pass, has a controlled parking space or is on the waiting list for a parking space, or has a Metro Pool pass, and are destroyed thereafter on an annual basis.

System Manager(s) and address:

Director, Office of Administrative Services, Peace Corps, 1111 20th Street, NW, Washington, DC 20526.

Notification, access, and contesting record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject.

PC-21

System name:

Crisis Corps Database.

System location:

Crisis Corps, Peace Corps, 1111 20th St., NW., Washington, DC 20526.

Category of individuals covered by the system:

Former Peace Corps volunteers.

Categories of records in the system:

Name, address, telephone number, education, country of service, dates of service, volunteer assignment area, technical skills, language proficiencies, and suitability for assignment.

Authority for maintenance of the system: (Includes any revisions or amendments):

The Peace Corps Act, 22 U.S.C. 2501 et seq.

Purpose(s):

To track returned volunteers who are interested in short-term assignment to crisis areas (Last Revised: August 2000).

Routine uses of records maintained in the system; including categories of users and the purposes of such user:

General routine uses A, C, E, F, G, H, K, and L apply to this system.

Policies and practices for storing, retrieving, accessing, retaining, and disposing of records in the system:

Storage:

On paper and in a computerized database.

Retrievability:

By name, address, telephone number, education, country of service, dates of service, volunteer assignment area, technical skills, language proficiencies, and suitability for assignment.

Safeguards:

Computer records are maintained in a secure, password-protected computer system. Paper records are maintained in lockable file cabinets. All records are maintained in secure, access-controlled areas or buildings.

Retention and disposal:

Records are retained at Peace Corps headquarters until declared inactive, then retired to the Federal Records Center, where they are retained for five years and then destoryed.

System Manager(s) and address:

Director, Crisis Corps, Peace Corps, 1111 20th St., NW., Washington, DC 20526.

Notification, access, and contesting record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject.

PC-22

System name:

Volunteer Health Record.

System location:

Office of Medical Services, 1111 20th St., NW, Washington, DC 20526.

Categories of individuals covered by the system:

Peace Corps volunteers and applicants.

Categories of records in the system:

Name, address, telephone number, social security number, date of birth, sex, dates of service, country of service, medical and dental history including medical examination forms and fitness for duty reports, medical claims, related correspondence and cables, medical payment records, treatment, hospitalization, and disposition of the case, if applicable and reports from health care providers.

Authority for maintenance of the system: (Includes any revisions or amendments):

22 U.S.C. 2504(e); and the Peace Corps Act, 22 U.S.C. 2501 et seq.

Purpose(s):

To record medical and dental information concerning Peace Corps Volunteers and applicants (Last Revised: August 2000).

Routine uses of records maintained in the system, including categories of users and the purposes of such uses:

General routine uses F and K apply to this system.

Records may also be disclosed to:

1. The Occupational Safety and Health Administration, Department of Labor, for job-related or service-related injuries or illnesses; and

2. The Office of Workers' Compensation Programs, Department of Labor, for workers' compensation claims.

Policies and practices for storing, retrieving, accessing, retaining, and disposing of records in the system:

Storage:

On paper and in a computerized database.

Retrievability:

By name and social security number.

Safeguards:

Paper records are maintained in a lockable file room. Computer records are maintained in a secure, password-protected computer system. All records are maintained in secure, access-controlled areas or buildings.

Retention and disposal:

Records are retained in the Office of Medical Services at Peace Corps headquarters for two years, then retired to the Federal Records Center, where they are maintained for 25 years, and then destroyed.

System Manager(s) and address:

Director, Office of Medical Services, Peace Corps, 1111 20th St., NW, Washington, DC 20526.

Notification, access, and contesting record procedures:

Any individual who wants to know whether this system of records contains a record about him or her, who wants access to his or her record, or who wants to contest the contents of a record, should make a written request to the System Manager. Requests will be required to provide adequate identification, such as a driver's license, employee identification card, or other identifying document. Additional identification may be required in some instances. Requests for correction or amendment must identify the record to be changed and the corrective action sought. Complete Peace Corps Privacy Act procedures are set out in 22 CFR part 308.

Record source categories:

Record subject, physicians or other health care providers, and other medical sources including laboratories.

PC-23

System name:

Health Benefits Program for Peace Corps Volunteers.

System location:

Office of Medical Services, Peace Corps, 1111 20th St., NW., Washington, DC 20526.

Categories of individuals covered by the system:

Peace Corps Volunteers.

Categories of records in the system:

Name, address, telephone number, social security number, volunteer identification number, date of birth, sex, medical and dental history, dates of service, country of service, x-rays and reports from physicians and other health care providers.

Authority for maintenance of the system: (Includes any revisions or amendments):

22 U.S.C. 2504(e); and the Peace Corps Act, 22 U.S.C. 2501 et seq.

Purpose(s):

To authorize health care for volunteers, pay health care bills, provide eligibility lists to health care contractors and insurance carriers, and to confirm volunteer eligibility for service (Last Revised: August 2000).

Routine uses of records maintained in the system, including categories of users and the purposes of such uses:

General routine uses F and K apply to this system. Records may also be disclosed to:

1. Peace Corps health benefits contractors to administer health care to Volunteers; and

2. The Office of Workers' Compensation Programs, Department of Labor, for workers' compensation claims.

Policies and practices for storing, retrieving, accessing, retaining and disposing of records in the system:

Storage:

On paper and in a computerized database.

Retrievability:

By name, social security number, and volunteer identification number.

Safeguards:

Paper records are maintained in a lockable file room. Computer records are maintained in a secure, password-protected computer system. All records are maintained in secure, access-controlled areas or buildings.

Retention and disposal:

Records are retained at the Office of Administrative Services at Peace Corps headquarters for two years, then retired to the Federal Records Center, where they are maintained for 25 years, and then destroyed.

System Manager(s) and address:

Director, Office of Medical Services, Peace Corps, 1111 20th St., NW., Washington, DC 20526.

Notification, access, and contesting record procedures:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject, physicians or other health care providers, and other medical sources including laboratories.

PC-24

System name:

Privacy and Freedom of Information Act Requests.

System location:

Office of Administrative Services, Peace Corps, 1111 20th St., NW., Washington, DC 20526.

Categories of individuals covered by the system:

Individuals who request access to records containing personally identifiable information subject to the Privacy Act and/or individuals who request copies of records under the Freedom of Information Act.

Categories of records in the system:

Names and addresses of individuals making requests, including date of request, related correspondence, and Peace Corps' response to request.

Authority for maintenance of the system: (Includes any revisions or amendments):

The Peace Corps Act, 22 U.S.C. 2501 et seq., the Privacy Act, 5 U.S.C. 552a, and the Freedom of Information Act, 5 U.S.C. 552.

Purpose(s):

To record requests for records made under the Privacy Act and/or the Freedom of Information Act (Last Revised: August 2000).

routine uses of records maintained in the system; including categories of users and the purposes of such uses:

General routine uses A, E, F, H, G, K, and L apply to this system.

Policies and practices for storing, retrieving, accessing, retaining, and disposing of records in the system:

Storage:

On paper and in a computerized database. Records reflecting requests made by individuals under the Privacy Act are initially created and maintained by the Office of Administrative Services. Records reflecting requests made by members of the public under the Freedom of Information Act are logged in and responded to by the Office of the Executive Secretariat; the records are maintained by the Office of Administrative Services once responses to requests are completed.

Retrievability:

By name or date of request.

Safeguards:

Computer records are maintained in a secure, password-protected computer system. Paper records are maintained in lockable file cabinets. All records are maintained in secure, access-controlled areas or buildings.

Retention and disposal:

Records are kept onsite as long as active and then retired to the Federal Records Center to be destroyed after six years in accordance with General Records Schedule 14.

System Manager(s) and address:

Director, Office of Administrative Services, Peace Corps, 1111 20th St., NW., Washington, DC 20526.

Notification, access, and contesting record procedures:

An individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. complete Peace Corps Privacy Act procedures are set out in 22 CFR part 308.

Record source categories:

Individuals making requests under the Privacy and/or Freedom of Information Acts.

PC-25

System name:

Early Termination and Special Action.

System location:

Office of Special Services, Peace Corps, 1111 20th St., NW., Washington, DC 20526.

Categories of individuals covered by the system:

Current and former Peace Corps volunteers and trainees who were subject to early termination or a special action.

Categories of records in the system:

Name, country of assignment, program number, termination reports, staff recommendations, cables, financial information, travel arrangements, and documentation of special actions taken in regard to family and/or friends of volunteers or trainees who have died, disappeared, or become severely ill or injured.

Authority for maintenance of the system (Includes any revisions or amendments):

The Peace Corps Act, 22 U.S.C. 2501 et seq.

Purpose(s):

To record any unusual or extraordinary action or circumstances happening during service or leading to the early termination of the volunteer or trainee?

Routine uses of records maintained in the system, including categories of users and the purposes of such uses:

General routine uses A, B, D, E, F, H, I, K, and L apply to this system.

Policies and practices for storing, retrieving, accessing, retaining, and disposing of records in the system:

Storage:

On paper and/or in a computerized database.

Retrievability:

By name.

Safeguards:

Computer records are maintained in a secure, password-protected computer system. Paper records are maintained in lockable file cabinets. All records are maintained in secure, access-controlled areas or buildings.

Retention and disposal:

Records are kept on-site for the duration of the volunteer's service in-country, and then destroyed after five years.

System Manager(s) and address:

Director, Office of Special Services, Peace Corps, 1111 20th St., NW., Washington, DC 20526.

Procedures for notification, access, and contesting:

Any individual who wants to know whether this system of records contains a record about him or her, who wants access to his or her record, or who wants to contest the contents of a record, should make a written request to the System Manager. Requesters will be required to provide adequate identification, such as a driver's license, employee identification card, or other identifying document. Additional identification procedures may be required in some instances. Requests for correction or amendment must identify the record to be changed and the corrective action sought. Complete Peace Corps Privacy Act procedures are set out in 22 CFR part 308.

Record source categories:

Records subject, family members and their legal representatives, Peace Corps supervisors, physicians or other health care providers, and the Department of State.

Dated: This notice is issued in Washington, DC, on August 25, 2000.
Doug Greene,
Chief, Information Officer and Associate Director for Management.

[FR Doc. 00-22559 Filed 9-1-00; 8:45 am]

BILLING CODE 6051-01-M